DEPARTMENT OF ENERGY

Federal Energy Regulatory Commission

[Project No. 2628-066]

Alabama Power Company; Notice of Revised Procedural Schedule for Environmental Impact Statement for the Proposed Project Relicense

On November 23, 2021, as supplemented,¹ the Alabama Power Company filed an application for a new major license for the 135-megawatt R.L. Harris Hydroelectric Project No. 2628 (Harris Project or project). On March 31, 2023, Commission staff issued a notice of intent to prepare an Environmental Impact Statement (EIS) to evaluate the effects of relicensing the Harris Project. The notice included an anticipated schedule for issuing the draft and final EIS. On April 18, 2024, staff issued a notice of revised procedural schedule for preparing a draft and final EIS.

¹ The final license application filed November 23, 2021, was supplemented on March 23, 2022, June 15, 2022, and December 27, 2022.

By this notice, Commission staff is updating the procedural schedule for completing the draft EIS. The revised schedule is shown below. Further revisions to the schedule may be made as appropriate.

Milestone | Target date
Issue draft EIS | November 2024.

Any questions regarding this notice may be directed to Sarah Salazar at (202) 502-6863 or sarah.salazar@ferc.gov.

Dated: September 9, 2024.
Debbie-Anne A. Reese,
Acting Secretary.

[FR Doc. 2024-20833 Filed 9-12-24; 8:45 am]

BILLING CODE 6717-01-P